DEPARTMENT OF ENERGY

Federal Energy Regulatory Commission

[Docket No. RP02-367-000]

Northern Border Pipeline Company; Notice of Proposed Changes in FERC Gas Tariff

June 26, 2002.

Take notice that on June 21, 2002, Northern Border Pipeline Company (Northern Border) tendered for filing to become part of its FERC Gas Tariff, First Revised Volume No. 1, the following tariff sheets, with an effective date of August 1, 2002:

Third Revised Sheet No. 286C

Third Revised Sheet No. 287

Northern Border is filing revised tariff sheets to set forth clearly the conditions under which the Company may elect to terminate a temporary capacity release. Northern Border states that the proposed changes are in response to the Commission's observations as stated in an order at Docket No. RP02-206-000 (95 FERC ¶ 61,182).

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16624 Filed 7-1-02; 8:45 am]

BILLING CODE 6717-01-P